DEPARTMENT OF HEALTH AND HUMAN SERVICES

Administration for Children and Families

Proposed Information Collection Activity; Comment Request

Proposed Projects:

Title: Federal Tax Refund Offset, Administrative Offset, and Passport Denial.

OMB No.: 0970-0161.

Description: The Federal Offset programs (Federal Tax Refund Offset and Administrative Offset) collect past-due child and spousal support by intercepting certain Federal payments, including Federal tax refunds, of parents who have been ordered to pay support and are delinquent. The Federal Offset programs consist of a cooperative effort among the Department of the Treasury's Bureau of the Fiscal Service, the Federal Office of Child Support Enforcement (OCSE), and State child support agencies.

The Passport Denial program reports noncustodial parents who owe child and spousal support above a threshold to the Department of State, which will then deny passports.

On an ongoing basis, State child support agencies submit names, Social Security numbers, and the amount(s) of past-due child and spousal support of noncustodial parents who are delinquent in making payments to OCSE.

Federal laws authorize information collection activities pertaining to the Federal Offset and Passport Denial programs and require State child support agencies to submit information pertaining to past-due support that meets specific criteria and to comply with Annual Certification Letter requirements:

(1) 42 U.S.C. 652(b), 42 U.S.C. 664, and 26 U.S.C. 6402(c), for the offset of the Federal tax refund of the noncustodial parent;

(2) 31 U.S.C. 3701 et seq. and 31 U.S.C. 3716(h), for the offset of the Federal payments other than Federal tax refunds of the noncustodial parent; and

(3) 42 U.S.C. 654(31) and 42 U.S.C. 652(k), to Department of State for the denial, revocation, restriction, or limitation of the passport of the noncustodial parent.

Respondents: State Child Support Agencies.

Annual Burden Estimates
Instrument | Number of respondents | Number of responses per respondent | Average burden hours per response | Total burden hours
Input Record | 54 | 52 | .3 | 842.4
Output Record | 54 | 52 | .46 | 1291.7
Payment File | 54 | 52 | .135 | 379.1
Certification Letter | 54 | 1 | .4 | 21.6
Portal Processing screens | 173 | 280.65 | .01 | 485.52
Total |  |  |  | 3,020

Estimated Total Annual Burden Hours: 3,020 hours

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-26845 Filed 10-21-15; 8:45 am]

BILLING CODE 4184-01-P